FEDERAL COMMUNICATIONS COMMISSION

47 CFR Part 97

[WT Docket No. 16-239; FCC 23-93; FR ID 188673]

Amateur Radio Service Rules To Permit Greater Flexibility in Data Communications

AGENCY: Federal Communications Commission.

ACTION: Final rule.

SUMMARY: In this document, the Federal Communications Commission (FCC or Commission) amends its amateur radio rules to eliminate the limitations on the symbol rate (also known as baud rate)—the rate at which the carrier waveform amplitude, frequency, and/or phase is varied to transmit information—applicable to data emissions in certain amateur bands. In place of the baud rate, the Commission sets a bandwidth limitation of 2.8 kilohertz in the respective amateur bands, consistent with the Commission's treatment of other wireless radio services, which also have service-specific bandwidth limitations. This bandwidth limitation will promote continued sharing in these amateur bands.

DATES: Effective January 8, 2024.

FOR FURTHER INFORMATION CONTACT: For additional information on this proceeding, contact Nellie Foosaner of the Wireless Telecommunications Bureau, Mobility Division, at (202) 418-2925 or nellie.foosaner@fcc.gov.

SUPPLEMENTARY INFORMATION: This is a summary of the Commission's Order, in WT Docket No. 16-239; FCC 23-93, adopted and released on November 13, 2023. The full text of this document is available online at https://docs.fcc.gov/public/attachments/FCC-23-93A1.pdf. The Commission will send a copy of this Order in a report to be sent to Congress and the Government Accountability Office pursuant to the Congressional Review Act, see 5 U.S.C. 801(a)(1)(A).

Synopsis

1. In this Report and Order, the Commission removes limitations on the symbol rate (also known as baud rate)—the rate at which the carrier waveform amplitude, frequency, and/or phase is varied to transmit information—applicable to data emissions in certain amateur bands. The Commission removes this outdated restriction to allow the amateur radio community to operate more efficiently, including in support of emergency situations when appropriate. Bands with a 300 baud rate limitation that the Commission eliminates in this Report and Order are: 160 meter band; 80 meter band; 40 meter band segments 7.000-7.100 MHz and 7.100-7.125 MHz; 30 meter band; 20 meter band segment 14.00-14.15 MHz; 17 meter band segment 18.068-18.110 MHz; 15 meter band segment 21.0-21.2 MHz; 12 meter band segment 24.89-24.93 MHz. The 10 meter band segment 28.0-28.3 MHz has a 1200 baud rate limitation that the Commission eliminates in this Report and Order. The Commission adopts a 2.8 kilohertz bandwidth limitation in place of the baud rate limitation applicable to the following amateur radio bands: 160 meter band; 80 meter band; 40 meter band, segments 7.000-7.100 MHz and 7.100-7.125 MHz; 30 meter band; 20 meter band, segment 14.00-14.15 MHz; 17 meter band, segment 18.068-18.110 MHz; 15 meter band segment 21.0-21.2 MHz; 12 meter band segment 24.89-24.93 MHz; and 10 meter band, segment 28.0-28.3 MHz. The Report and Order finds that without a baud rate or bandwidth limit, data stations using a large amount of spectrum for a single emission could do so to the detriment of simultaneous use by other stations using narrowband emission modes. The Report and Order also makes non-substantive edits to the two rule sections the Commission is otherwise revising, §§ 97.305 and 97.307, to conform to the current stylistic requirements of the Federal Register Document Drafting Handbook.

Procedural Matters

2. Regulatory Flexibility Certification. The Regulatory Flexibility Act of 1980, as amended (RFA) requires that an agency prepare a regulatory flexibility analysis for notice and comment rulemakings, unless the agency certifies that “the rule will not, if promulgated, have a significant economic impact on a substantial number of small entities.” The RFA generally defines the term “small entity” as having the same meaning as the terms “small business,” “small organization,” and “small governmental jurisdiction.” In addition, the term “small business” has the same meaning as the term “small business concern” under the Small Business Act. A “small business concern” is one which: (1) is independently owned and operated; (2) is not dominant in its field of operation; and (3) satisfies any additional criteria established by the Small Business Administration (SBA).

3. As required by the RFA, an Initial Regulatory Flexibility Certification (IRFC) was incorporated in the Notice of Proposed Rulemaking (NPRM) in this proceeding. In the NPRM, the Commission certified that because the proposed amendments to amateur service rules changing a technical rule applicable to data emissions that an amateur radio operator may use in his or her communications with other amateur radio operators applied exclusively to individuals holding certain Commission authorizations, rather than “small entities,” as defined in the RFA, the NPRM would not have a significant economic impact on a substantial number of small entities. The Commission sought written public comment on the proposals in the NPRM including comment on the IRFC. No comments were filed addressing the IRFC. The two statutorily-mandated criteria to be applied in determining the need for an RFA analysis are: (1) whether the proposed rules, if adopted, would have a significant economic effect; and (2) if so, whether the economic effect would directly affect a substantial number of small entities. In the Report and Order, the Commission amends the amateur service rules to change the technical rules applicable to data emissions an amateur radio operator may use in his or her communications with other amateur radio operators. The RFA's definition of “small entities,” does not include a “person” or an individual, as the terms are used in this proceeding. As a result, the rules do not apply to “small entities,” but instead apply exclusively to individuals who hold certain Commission authorizations. Accordingly, based on the Commission's application of the statutorily-mandated criteria it concludes, and therefore certifies in this Final Regulatory Flexibility Certification, that the rules adopted in this Report and Order will not have a significant economic impact on a substantial number of small entities.

4. The Commission will send copies of the Report and Order, including copies of the Final Regulatory Flexibility Certification, to the Chief Counsel for Advocacy of the SBA. The Final Regulatory Flexibility Certification will also be published in the Federal Register.

5. Paperwork Reduction Act. This document does not contain proposed information collection(s) subject to the Paperwork Reduction Act of 1995 (PRA), Public Law 104-13. In addition, therefore, it does not contain any new or modified information collection burden for small business concerns with fewer than 25 employees, pursuant to the Small Business Paperwork Relief Act of 2002, Public Law 107-198, see 44 U.S.C. 3506©(4).

6. Congressional Review Act. The Commission has determined, and the Administrator of the Office of Information and Regulatory Affairs, Office of Management and Budget, concurs, that this rule is “non-major” under the Congressional Review Act, 5 U.S.C. 804(2). The Commission will send a copy of this Report and Order to Congress and the Government Accountability Office pursuant to 5 U.S.C. 801(a)(1)(A).

Ordering Clauses

7. Accordingly, it is ordered that, pursuant to sections 4(i), 5, 303(r), and 403 of the Communications Act of 1934, 47 U.S.C. 154(i), 155, 303(r), and 403 of the Commission's rules, that this Report and Order is hereby adopted. Proceeding RM-11708 is terminated.

8. Accordingly, it is ordered that, pursuant to sections 4(i), 5, 303(r), and 403 of the Communications Act of 1934, 47 U.S.C. 154(i), 155, 303(r), and 403 of the Commission's rules, that this Report and Order is hereby adopted. Proceeding RM-11708 is terminated.

9. It is further ordered that part 97 of the Commission's rules IS AMENDED as set forth in the Appendix, effective 30 days after publication in the Federal Register.

10. It is further ordered that the Office of the Managing Director, Performance Program Management, shall send a copy of this Report & Order in a report to be sent to Congress and the Government Accountability Office pursuant to the Congressional Review Act, 5 U.S.C. 801(a)(1)(A).

11. It is further ordered that the Office of the Secretary, Reference Information Center, shall send a copy of the Report and Order including the Final Regulatory Flexibility Certification, to the Chief Counsel for Advocacy of the Small Business Administration.

12. It is further ordered that part 97 of the Commission's rules is amended as set forth in the Appendix, effective 30 days after publication in the Federal Register.

13. It is further ordered that the Office of the Managing Director, Performance Program Management, shall send a copy of this Report & Order in a report to be sent to Congress and the Government Accountability Office pursuant to the Congressional Review Act, 5 U.S.C. 801(a)(1)(A).

14. It is further ordered that the Office of the Secretary, Reference Information Center, shall send a copy of the Report and Order including the Final Regulatory Flexibility Certification, to the Chief Counsel for Advocacy of the Small Business Administration.

List of Subjects in 47 CFR Part 97

Radio.

Federal Communications Commission.
Marlene Dortch,
Secretary.

Final Rules

For the reasons discussed in the preamble, the Federal Communications Commission amends 47 CFR part 97 as follows:

PART 97—AMATEUR RADIO SERVICE

1. The authority citation for part 97 continues to read as follows:

Authority: 47 U.S.C. 151-155, 301-609, unless otherwise noted.

2. Section 97.305 is amended by revising paragraph (c) to read as follows:

§ 97.305 Authorized emission types.

* * * * *

(c) A station may transmit the following emission types on the frequencies indicated, as authorized to the control operator, subject to the standards specified in § 97.307(f):

Wavelength band | Frequencies | Emission types authorized | Standards see § 97.307, paragraph(s):
(1) LF:
(i) 2200 m | Entire band | RTTY, data | (f)(3).
(ii) 2200 m | Entire band | Phone, image | (f)(1), (2).
(2) MF:
(i) 630 m | Entire band | RTTY, data | (f)(3).
(ii) 630 m | Entire band | Phone, image | (f)(1), (2).
(iii) 160 m | Entire band | RTTY, data | (f)(3).
(iv) 160 m | Entire band | Phone, image | (f)(1), (2).
(3) HF:
(i) 80 m | Entire band | RTTY, data | (f)(3), (9).
(ii) 75 m | Entire band | Phone, image | (f)(1), (2).
(iii) 60 m | 5.332, 5.348, 5.3585, 5.373 and 5.405 MHz | Phone, RTTY, data | (f)(14).
(iv) 40 m | 7.000-7.100 MHz | RTTY, data | (f)(3), (9).
(v) 40 m | 7.075-7.100 MHz | Phone, image | (f)(1), (2), (9), (11).
(vi) 40 m | 7.100-7.125 MHz | RTTY, data | (f)(3), (9).
(vii) 40 m | 7.125-7.300 MHz | Phone, image | (f)(1), (2).
(viii) 30 m | Entire band | RTTY, data | (f)(3).
(ix) 20 m | 14.00-14.15 MHz | RTTY, data | (f)(3).
(x) 20 m | 14.15-14.35 MHz | Phone, image | (f)(1), (2).
(xi) 17 m | 18.068-18.110 MHz | RTTY, data | (f)(3).
(xii) 17 m | 18.110-18.168 MHz | Phone, image | (f)(1), (2).
(xiii) 15 m | 21.0-21.2 MHz | RTTY, data | (f)(3), (9).
(xiv) 15 m | 21.20-21.45 MHz | Phone, image | (f)(1), (2).
(xv) 12 m | 24.89-24.93 MHz | RTTY, data | (f)(3).
(xvi) 12 m | 24.93-24.99 MHz | Phone, image | (f)(1), (2).
(xvii) 10 m | 28.0-28.3 MHz | RTTY, data | (f)(3).
(xviii) 10 m | 28.3-28.5 MHz | Phone, image | (f)(1), (2), (10).
(xix) 10 m | 28.5-29.0 MHz | Phone, image | (f)(1), (2).
(xx) 10 m | 29.0-29.7 MHz | Phone, image | (f)(2).
(4) VHF:
(i) 6 m | 50.1-51.0 MHz | MCW, phone, image, RTTY, data | (f)(2), (5).
(ii) 6 m | 51.0-54.0 MHz | MCW, phone, image, RTTY, data, test | (f)(2), (5), (8).
(iii) 2 m | 144.1-148.0 MHz | MCW, phone, image, RTTY, data, test | (f)(2), (5), (8).
(iv) 1.25 m | 219-220 MHz | Data | (f)(13).
(v) 1.25m | 222-225 MHz | RTTY, data, test MCW, phone, SS, image | (f)(2), (6), (8).
(5) UHF:
(i) 70 cm | Entire band | MCW, phone, image, RTTY, data, SS, test | (f)(6), (8).
(ii) 33 cm | Entire band | MCW, phone, image, RTTY, data, SS, test, pulse | (f)(7), (8), and (12).
(iii) 23 cm | Entire band | MCW, phone, image, RTTY, data, SS, test | (f)(7), (8), and (12).
(iv) 13 cm | Entire band | MCW, phone, image, RTTY, data, SS, test, pulse | (f)(7), (8), and (12).
(6) SHF:
(i) 5 cm | Entire band | MCW, phone, image, RTTY, data, SS, test, pulse | (f)(7), (8), and (12).
(ii) 3 cm | Entire band | MCW, phone, image, RTTY, data, SS, test | (f)(7), (8), and (12).
(iii) 1.2 cm | Entire band | MCW, phone, image, RTTY, data, SS, test, pulse | (f)(7), (8), and (12).
(7) EHF:
(i) 6 mm | Entire band | MCW, phone, image, RTTY, data, SS, test, pulse | (f)(7), (8), and (12).
(ii) 4 mm | Entire band | MCW, phone, image, RTTY, data, SS, test, pulse | (f)(7), (8), and (12).
(iii) 2.5 mm | Entire band | MCW, phone, image, RTTY, data, SS, test, pulse | (f)(7), (8), and (12).
(iv) 2 mm | Entire band | MCW, phone, image, RTTY, data, SS, test, pulse | (f)(7), (8), and (12).
(v) 1 mm | Entire band | MCW, phone, image, RTTY, data, SS, test, pulse | (f)(7), (8), and (12).
(vi) 1 mm | Above 275 GHz | MCW, phone, image, RTTY, data, SS, test, pulse | (f)(7), (8), and (12).

3. Section 97.307 is amended by:

a. Revising paragraph (f)(3);

b. Removing and reserving paragraph (f)(4);

c. Revising the heading to the table in paragraph (f)(14)(i); and

d. Removing the text “of this part” wherever it appears.

The revisions read as follows:

§ 97.307 Emission standards.

* * * * *

(f)* * *

(3) Only a RTTY or data emission using a specified digital code listed in § 97.309(a) may be transmitted. The authorized bandwidth is 2.8 kHz except in the 2200 m band and 630 m band. In the 2200 m band and the 630 m band the symbol rate must not exceed 300 bauds, or for frequency-shift keying, the frequency shift between mark and space must not exceed 1 kHz.

* * * * *

(14) * * *

(i) * * *

Table 1 to Paragraph (f)(14)(i)—60 M Band Emission Requirements

* * * * *

[FR Doc. 2023-26770 Filed 12-6-23; 8:45 am]

BILLING CODE 6712-01-P